DEPARTMENT OF DEFENSE

Office of the Secretary

[Docket ID: DoD-2024-OS-0130]

Proposed Collection; Comment Request

AGENCY: Office of the Under Secretary of Defense for Acquisition and Sustainment (OUSD(A&S)), Department of Defense (DoD).

ACTION: 60-Day information collection notice.

SUMMARY: In compliance with the Paperwork Reduction Act of 1995, the Office of Local Defense Community Cooperation (OLDCC) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 18, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of Local Defense Community Cooperation, 2231 Crystal Drive, Arlington, VA 22202, ATTN: Mr. Michael Wilson or call (703) 697-2188.

SUPPLEMENTARY INFORMATION:

Title; Associated Form; and OMB Number: Defense Community Infrastructure Program Grant Proposals; OMB Control Number 0704-0607.

Needs and Uses: Section 2391(d) of Title 10, United States Code (10 U.S.C. 2391), authorizes the Secretary of Defense to, “make grants, conclude cooperative agreements, and supplement funds available under Federal programs administered by agencies other than the Department of Defense, for projects owned by a State or local government, or a not-for-profit, member-owned utility service to address deficiencies in community infrastructure supportive of a military installation.” The Consolidated Appropriations Act for Fiscal Year 2021 (Pub. L. 116-260) provided $60 million to the Office of Local Defense Community Cooperation for the Defense Community Infrastructure Program (DCIP). This information collection supports the awarding of grants under DCIP via the initial grant proposal package prepared in accordance with a Federal Funding Opportunity Announcement posted on the Grants.gov website. The criteria established for the selection of community infrastructure projects reflects projects consisting of some combination of attributes that will enhance: (i) Military value; (ii) military installation resilience; and/or, (iii) military family quality of life at a military installation. Respondents can be State or local governments and not-for-profit, member-owned utility services owning infrastructure outside of, but supporting, a military installation.

Affected Public: State, Local or Tribal Government; Not-for-profit Institutions.

Annual Burden Hours: 2,250.

Number of Respondents: 150.

Responses per Respondent: 1.

Annual Responses: 150.

Average Burden per Response: 15 hours.

Frequency: Annually.

Respondents will be State or local Governments and not-for-profit, member-owned utility services owning infrastructure outside of, but supporting, a military installation. A Proposal Package shall include the following information: point of contact; summary of installation need; letter of endorsement from the Commander of the local installation; description of the proposed project with explanation of how it addresses the installation need; demonstration of the technical feasibility of the project; identification of other parties involved in the project; overview and commitment of all funding sources; uses of project funding, including a total project cost estimate with major cost elements broken out for project administration, inspection, construction, utilities, and contingency costs; project schedule demonstrating that the project can commence within 12 months upon receipt of a grant and that the grant funds will be spent steadily and expeditiously once the project commences, and completed no later than 5 years following the obligation of Federal funds; Environmental Approvals; State and Local Planning (if applicable); Evidence of the intended recipient's ability and authority to manage grants; Documentation that the Submitting Official is authorized by the proposer to submit a proposal and subsequently apply for assistance; and National Security Waiver Attestation (if appropriate).

Dated: December 11, 2024.
Aaron T. Siegel,
Alternate OSD Federal Register, Liaison Officer, Department of Defense.

[FR Doc. 2024-29612 Filed 12-16-24; 8:45 am]

BILLING CODE 6001-FR-P